DEPARTMENT OF THE INTERIOR

Bureau of Land Management

[AZ-210-07-1220-DA-241A]

Notice of Public Meetings for Route Designation

AGENCY: Bureau of Land Management, Interior.

ACTION: Notice of public meeting, off-road vehicle route designations.

SUMMARY: To comply with CFR 8340, Off-Road Vehicles, and land use planning for the Bureau of Land Management, Phoenix District, Hassayampa Field Office, Arizona, three route designation public meetings will be held. The purpose of these meetings is to inform the public of the process that will be used, the type of input from the public that would be helpful, and the general schedule leading to final route designations. Maps will be available. Input from the public regarding route connectivity, existing conflicts, and current or desired access will be taken.

DATES: Meetings will be held beginning at 6:30 p.m. and conclude at 8 p.m. as follows: April 24, 2007, at Deer Valley Senior Center, 2001 West Wahalla Lane, Phoenix, Arizona; April 25, 2007, at Morristown Elementary School, 25950 Rockaway Hills Drive, Morristown, Arizona; and April 26, 2007, at Albins Civic Center, 19005 East K-Mine Road Center, Black Canyon City, Arizona.

FOR FURTHER INFORMATION CONTACT: Rich Hanson, Bureau of Land Management, 21605 North 7th Avenue, Phoenix, Arizona 85027, 623-580-5500.

Clay Templin,
Field Manager.

[FR Doc. E7-4245 Filed 3-8-07; 8:45 am]

BILLING CODE 4310-32-P